ENVIRONMENTAL PROTECTION AGENCY

40 CFR Part 52

[EPA-R08-OAR-2024-0550; FRL-13050-01-R8]

Air Plan Approval; CO; Revisions to Colorado Procedural Rules and Common Provisions Regulation

AGENCY: Environmental Protection Agency (EPA).

ACTION: Proposed rule.

SUMMARY: The Environmental Protection Agency (EPA) is proposing to approve revisions to the Colorado State Implementation Plan (SIP) that were submitted by the Colorado Department of Public Health and Environment (CDPHE) on May 20, 2022. CDPHE requested EPA approval of revisions to the Colorado's Procedural Rules and Common Provisions Regulation. The revised rules include non-substantive updates to rule language that are administrative in nature and were intended to provide for general cleanup and improved readability. The EPA is proposing approval of these SIP revisions because we have determined that they are in accordance with the requirements for SIP provisions under the Clean Air Act (CAA). In the “Rules and Regulations” section of this Federal Register, we are approving these SIP revisions as a direct final rule without a prior proposed rule. If we receive no adverse comment, we will not take further action on this proposed rule.

DATES: Written comments must be received on or before February 2, 2026.

ADDRESSES: Submit your comments, identified by Docket ID No. EPA-R08-OAR-2024-0550, to the Federal Rulemaking Portal: https://www.regulations.gov. Follow the online instructions for submitting comments. Once submitted, comments cannot be edited or removed from www.regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, the full EPA public comment policy, information about CBI or multimedia submissions, and general guidance on making effective comments, please visit https://www.epa.gov/dockets/commenting-epa-dockets.

Docket: All documents in the docket are listed in the https://www.regulations.gov index. Although listed in the index, some information is not publicly available, e.g., CBI or other information whose disclosure is restricted by statute. Certain other material, such as copyrighted material, will be publicly available only in hard copy. Publicly available docket materials are available electronically in https://www.regulations.gov. Please email or call the person listed in the FOR FURTHER INFORMATION CONTACT section if you need to make alternative arrangements for access to the docket.

FOR FURTHER INFORMATION CONTACT: Liz Ulrich, Air and Radiation Division, EPA, Region 8, Mailcode 8ARD-IO, 1595 Wynkoop Street, Denver, Colorado 80202-1129, telephone number: (406) 457-5008, email address: ulrich.elizabeth@epa.gov.

SUPPLEMENTARY INFORMATION: This document proposes to approve revisions to the Colorado SIP that incorporate certain provisions of Colorado's Procedural Rules and Common Provisions Regulation. We have published a direct final rule approving those revisions in the Rules and Regulations section of this Federal Register because we view this as a noncontroversial action and anticipate no adverse comment. We have explained our reasons for this action in the preamble to the direct final rule.

If we receive no adverse comment, we will not take further action on this proposed rule. If we receive adverse comment, we will withdraw the direct final rule, and it will not take effect. We will address all public comments in any subsequent final rule based on this proposed rule.

We do not intend to institute a second comment period on this action. Any parties interested in commenting must do so at this time. For further information, please see the information provided in the ADDRESSES section of this document.

Dated: December 16, 2025.
Cyrus M. Western,
Regional Administrator, Region 8.

[FR Doc. 2025-24140 Filed 12-31-25; 8:45 am]

BILLING CODE 6560-50-P